DEPARTMENT OF VETERANS AFFAIRS

[OMB Control No. 2900-NEW]

Agency Information Collection Activity: Priority Processing Request

AGENCY: Veterans Benefits Administration, Department of Veterans Affairs.

ACTION: Notice.

SUMMARY: Veterans Benefits Administration (VBA), Department of Veterans Affairs (VA), is announcing an opportunity for public comment on the proposed collection of certain information by the agency. Under the Paperwork Reduction Act (PRA) of 1995, Federal agencies are required to publish notice in the Federal Register concerning each proposed collection of information, including each proposed new collection, and allow 60 days for public comment in response to the notice. DATES: Comments must be received on or before January 23, 2026.

ADDRESSES: Comments must be submitted through www.regulations.gov.

FOR FURTHER INFORMATION CONTACT:

Program-Specific information: Kendra Mccleave, 202-461-9760, kendra.mccleave@va.gov.

VA PRA information: Dorothy Glasgow, 202-461-1084, VAPRA@va.gov.

SUPPLEMENTARY INFORMATION: Under the PRA of 1995, Federal agencies must obtain approval from the Office of Management and Budget (OMB) for each collection of information they conduct or sponsor. This request for comment is being made pursuant to Section 3506(c)(2)(A) of the PRA.

With respect to the following collection of information, VBA invites comments on: (1) whether the proposed collection of information is necessary for the proper performance of VBA's functions, including whether the information will have practical utility; (2) the accuracy of VBA's estimate of the burden of the proposed collection of information; (3) ways to enhance the quality, utility, and clarity of the information to be collected; and (4) ways to minimize the burden of the collection of information on respondents, including through the use of automated collection techniques or the use of other forms of information technology.

Title: Priority Processing Request (VA Form 20-10207).

OMB Control Number: 2900-NEW. https://www.reginfo.gov/public/do/PRASearch (Once at this link, you can enter the OMB Control Number to find the historical versions of this Information Collection).

Type of Review: New collection.

Abstract: VA Form 20-10207 is used by VA to gather the necessary information to determine priority processing of a claim due to special circumstances or status. Without this information, VA would not be able to identify claims for priority processing for those claimants who are in urgent or immediate need due to changed circumstances. VA would also utilize this information collection for reporting purposes and for outreach efforts for those claimants. VA Form 20-10207 was previously under 2900-0877 and due to a program office change, a new control number is requested to be assigned.

Affected Public: Individuals or Households.

Estimated Annual Burden: 6,380 hours.

Estimated Average Burden per Respondent: 7 minutes.

Frequency of Response: One time.

Estimated Number of Respondents: 54,685 per year.

Authority: 44 U.S.C. 3501 et seq.

Lanea Haynes,
Acting, VA PRA Clearance Officer, (Alt) Office of Enterprise and Integration/Data Governance Analytics, Department of Veterans Affairs.

[FR Doc. 2025-20718 Filed 11-21-25; 8:45 am]

BILLING CODE 8320-01-P